DEPARTMENT OF COMMERCE

National Oceanic and Atmospheric Administration

50 CFR Part 622

[Docket No. 100217095-2081-04]

RIN 0648-XD479

Fisheries of the Caribbean, Gulf of Mexico, and South Atlantic; Reef Fish Fishery of the Gulf of Mexico; Extension of the 2014 Gulf of Mexico Recreational Red Grouper Season

AGENCY: National Marine Fisheries Service (NMFS), National Oceanic and Atmospheric Administration (NOAA), Commerce.

ACTION: Temporary rule; extension.

SUMMARY: NMFS extends the recreational fishing season for the red grouper component of the reef fish fishery in the exclusive economic zone (EEZ) of the Gulf of Mexico (Gulf) for the 2014 fishing year through this temporary rule. On April 30, 2014, NMFS published a temporary rule to implement accountability measures and a closure for the recreational sector for red grouper. That temporary rule reduced the red grouper bag limit in the Gulf EEZ to three fish (within the current four-fish grouper aggregate bag limit) and announced a recreational fishing season closure date of September 16, 2014, based on a recreational annual catch limit (ACL) overage in 2013 and the reduced bag limit. However, using updated landings information from 2014, NMFS has determined that the recreational fishing season for red grouper may be extended for an additional 18 days. The purpose of this action is to provide fishermen the opportunity to harvest the recreational annual catch target (ACT) for Gulf red grouper, and the opportunity to achieve the optimum yield for the fishery, thus enhancing social and economic benefits to the fishery.

DATES: The extension is effective 12:01 a.m., local time, September 16, 2014, until 12:01 a.m., local time, October 4, 2014. The season will then be closed until it reopens on January 1, 2015, the beginning of the 2015 recreational fishing season, unless further notification is published in the Federal Register.

FOR FURTHER INFORMATION CONTACT: Rich Malinowski, Southeast Regional Office, telephone 727-824-5305, email rich.malinowski@noaa.gov.

SUPPLEMENTARY INFORMATION: The reef fish fishery of the Gulf, which includes red grouper, is managed under the Fishery Management Plan for the Reef Fish Resources of the Gulf of Mexico (FMP). The FMP was prepared by the Gulf of Mexico Fishery Management Council (Council) and is implemented through regulations at 50 CFR part 622 under the authority of the Magnuson-Stevens Fishery Conservation and Management Act (Magnuson-Stevens Act). All weights specified in this rule are gutted weight.

The Gulf red grouper recreational ACL is 1,900,000 lb (861,826 kg), and the recreational ACT is 1,730,000 lb (784,715 kg), as specified in 50 CFR 622.41(e)(2)(iv). The recreational ACL and ACT for red grouper were implemented through Amendment 32 to the FMP (77 FR 6988, February 10, 2012). Red grouper are not overfished, based on the most recent Status of U.S. Fisheries Report to Congress.

NMFS determined that the 2013 recreational landings exceeded the 2013 recreational ACL of 1,900,000 lb (861,826 kg) by 492,113 lb (223,219 kg) and implemented post-season AMs through a temporary rule published on April 30, 2014 (79 FR 24353). In accordance with regulations at 50 CFR 622.41(e)(2)(ii), that temporary rule reduced the bag limit for Gulf red grouper from four to three fish (within the four-fish grouper aggregate bag limit) and reduced the recreational fishing season for Gulf red grouper for the 2014 fishing year to ensure landings do not exceed the recreational ACT.

NMFS now has updated landings data for recreational red grouper for the 2014 fishing year and has determined that landings were less than projected. Therefore, NMFS is extending the recreational fishing season for red grouper through this temporary rule. The extension is effective 12:01 a.m., local time, September 16, 2014, until 12:01 a.m., local time, October 4, 2014. The season will then be closed until it reopens on January 1, 2015, the beginning of the 2015 recreational fishing season, unless further notification is published in the Federal Register.

During the recreational sector closure, the bag and possession limit for red grouper in or from the Gulf EEZ is zero. This bag and possession limit applies in the Gulf on board a vessel for which a valid Federal charter vessel/headboat permit for Gulf reef fish has been issued, without regard to where such species were harvested, i.e. in state or Federal waters.

The recreational sector for red grouper will reopen on January 1, 2015, the beginning of the 2015 recreational fishing season. The 2015 bag limit for red grouper will return to four fish, as specified at 50 CFR 622.38(b)(2), unless AMs are implemented due to a recreational ACL overage in 2014, or the Council takes subsequent regulatory action to adjust the bag limit.

Classification

The Regional Administrator, Southeast Region, NMFS, has determined this temporary rule is necessary for the conservation and management of Gulf red grouper and is consistent with the Magnuson-Stevens Act and other applicable laws.

This action is taken under 50 CFR 622.41(e)(2)(ii) and is exempt from review under Executive Order 12866.

These measures are exempt from the procedures of the Regulatory Flexibility Act because the temporary rule is issued without opportunity for prior notice and comment.

Pursuant to 5 U.S.C. 553(b)(B), there is good cause to waive the requirements to provide prior notice and opportunity for public comment on this temporary rule. Such procedures are unnecessary because the final rule for Amendment 32 to the FMP (77 FR 6988, February 10, 2012) that established the recreational ACL, ACT, and AMs has already been subject to notice and comment, and all that remains is to notify the public that additional harvest remains on the established recreational ACT and, therefore, the recreational fishing season for Gulf red grouper will be extended for 18 additional days.

This rule relieves a restriction by extending the recreational fishing season for red grouper. Because it relieves a restriction, this rule is not subject to the 30-day delayed effectiveness provision of 5 U.S.C. 553(d)(1).

Authority: 16 U.S.C. 1801 et seq.

Dated: September 8, 2014.
Emily H. Menashes,
Acting Director, Office of Sustainable Fisheries, National Marine Fisheries Service.

[FR Doc. 2014-21765 Filed 9-9-14; 4:15 pm]

BILLING CODE 3510-22-P